DEPARTMENT OF DEFENSE

Office of the Secretary of Defense

Sunshine Act; Notice of Partially-Closed Meeting

AGENCY: Office of the Assistant Secretary of Defense (Health Affairs); DoD.

SUMMARY: Pursuant to the Federal Advisory Committee Act of 1972 (5 U.S.C., Appendix as amended), the Sunshine in the Government Act of 1976 (5 U.S.C. 552b, as amended), and 41 CFR 102-3.150, the following meeting notice is announced. In accordance with section 10(a)(2) of Public Law.

Name of Committee: Defense Health Board (DHB).

Dates: April 10, 2007 (Closed Session). April 11, 2007 (Open Session).

Times: 8:30 a.m.-12 p.m. (April 10, 2007). 1 p.m.-4 p.m. (April 10, 2007). 9 a.m.-12 p.m. (April 11, 2007). 2 p.m.-4 p.m. (April 11, 2007).

Location:

April 10, 2007, Executive Board Room, Walter Reed Army Institute of Research, 503 Robert Grant Avenue, Building 503, Silver Spring, Maryland 20910-7500.

April 11, 2007, Walter Reed Army Medical Center, 6900 Georgia Avenue, NW., Washington, DC 20307.

Purpose of the Meeting: The purpose of the meeting is to address and deliberate pending and new Board issues and provide briefing for Board members on topics to ongoing Board business.

Agenda: The Defense Health Board will receive briefings in classified session relating to biological warfare countermeasures on the April 10, 2007. On April 11, 2007 during the morning session, the Board will receive updates on the activities Defense Health Board subcommittees; The Mental Health Task Force and The Task Force on the Future of the Military Health Care. In the afternoon at 2 p.m., The Board will deliberate in open session the draft findings and recommendations of the Independent Review Group To Report On Rehabilitative Care And Administrative Processes At Walter Reed Army Medical Center And National Naval Medical Center, a Defense Health Board subcommittee. The Board will also receive a briefing on and will discuss the military vaccination program.

Pursuant to 5 U.S.C. 552b, as amended, and 41 CFR 102-3.155, in the interest of national security, the Department of Defense has determined that the meeting on April 10, 2007 will be closed to the public. The Under Secretary of Defense (Personnel and Readiness), in consultation with the Officer of the DoD General Counsel, has determined in writing that the public interest requires that session on April 10, 2007 meeting be closed to public because they will concern matters listed in section 552b(c)(1) of title 5, United States Code. Specifically the information presented meets criteria established by an executive order to be kept secret in the interest of national defense and foreign policy.

The Board will also conduct an administrative session on the afternoon of April 10, 2007 following the closed session. A preparatory session will be held on April 11, 2007 from 1 to 2 p.m. The administrative and preparatory sessions are closed to the public.

Any member of the public wishing to provide input to the Defense Health Board should submit a written statement in accordance with 41 CFR 102-3.140(c) and section 10(a)(3) of the Federal Advisory Committee Act, and the procedures described in this notice. Written statement should be not longer than two type-written pages and must address the following detail: The issue, discussion, and a recommended course of action. Supporting documentation may also be included as needed to establish the appropriate historical context and to provide any necessary background information.

Interested persons may submit a written statement for consideration by the Defense Health Board. Individuals submitting a written statement must submit their statement to the Designated Federal Officer at the address detailed below, at any point. However, if a written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

Designated Federal Officer, in consultation with the Defense Health Board Chairperson, may, if desired, allot a specific amount of time for members of the public to present their issues for review and discussion by the Defense Health Board.

FOR FURTHER INFORMATION CONTACT: Colonel Roger L. Gibson, Executive Secretary, Defense Health Board, Five Skyline Place, 5111 Leesburg Pike, Room 810, Falls Church, Virginia 22041-3206, (703) 681-3279, Ext. 123, (roger.gibson@ha.osd.mil). Additional information and meeting registration is available online at the Defense Health Board Web site, http://www.ha.osd.mil/dhb. The public is encouraged to register to facilitate access the open location at Walter Reed Army Medical Center.

Dated: March 19, 2007.
C.R. Choate,
Alternate OSD Federal Register Liaison Officer, Department of Defense.

[FR Doc. 07-1491 Filed 3-23-07; 10:50 am]

BILLING CODE 5001-06-M